DEPARTMENT OF ENERGY

Federal Energy Regulatory Commission

[Docket No. IC13-9-000]

Commission Information Collection Activities; Comment Request

AGENCY: Federal Energy Regulatory Commission, DOE.

ACTION: Request for comment.

SUMMARY: In compliance with the requirements of the Paperwork Reduction Act of 1995, 44 U.S.C. 3507(a)(1)(D), the Federal Energy Regulatory Commission (Commission or FERC) is submitting the information collection, FERC-730 (Report of Transmission Investment Activity), to the Office of Management and Budget (OMB) for review of the information collection requirements. Any interested person may file comments directly with OMB and should address a copy of those comments to the Commission as explained below. The Commission issued a Notice in the Federal Register (77 FR 77069, 12/31/2012) requesting public comments. FERC received no comments on the FERC-730 and is making this notation in its submittal to OMB.

DATES: Comments on the collection of information are due by April 18, 2013.

ADDRESSES: Comments filed with OMB (identified by the OMB Control No. 1902-0239) should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-9-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-730: Report of Transmission Investment Activity.

OMB Control No.: 1902-0239

Type of Request: Three-year extension of the FERC-730 information collection requirements with no changes to the reporting requirements.

Abstract: Pursuant to Section 219 ¹ of the Federal Power Act, the Commission issued FERC Order No. 679 ², Promoting Transmission Investment Through Pricing Reform. In Order No. 679 FERC amended its regulations in 18 CFR 35.35 to establish incentive-based (including performance-based) rate treatments for the transmission of electric energy in interstate commerce by public utilities. The Commission intended the order to benefit consumers by ensuring reliability and to reduce the cost of delivered power by reducing transmission congestion. Order No. 679 also adopted an annual reporting requirement (FERC-730) for utilities that receive incentive rate treatment for specific transmission projects. The FERC-730 provides annual data on transmission capital expenditures as well as project status detail. The Commission requires that filers specify which projects are currently receiving incentives in the project detail table and that they group together those facilities receiving the same incentive. Specifically, in accordance with the statute, public utilities with incentive rates must file:

¹ Energy Policy Act of 2005, Public Law 109-58, 119 Stat. 594, 315 and 1283 (2005).

² RM06-4-000 (issued 7/20/2006), published: 71 FR 43294.

• Actual transmission investment for the most recent calendar year, and projected, incremental investments for the next five calendar years (in dollar terms); and

• a project by project listing that specifies for each project the most up to date, expected completion date, percentage completion as of the date of filing, and reasons for delays for all current and projected investments over the next five calendar years. Projects with projected costs less than $20 million are excluded from this listing.

To ensure that Commission rules are successfully meeting the objectives of Section 219, the Commission collects industry data, projections and related information that detail the level of investment. FERC-730 information regarding projected investments as well as information about completed projects allows the Commission to monitor the success of the transmission pricing reforms and to determine the status of critical projects and reasons for delay.

Type of Respondents: Public utilities that have been granted incentive based rate treatment for specific transmission projects under the provisions of 18 CFR 35.35(h) must file the FERC-730.

Estimate of Annual Burden: ³ The Commission estimates the total Public Reporting Burden for this information collection as:

³ Burden is defined as the total time, effort, or financial resources expended by persons to generate, maintain, retain, or disclose or provide information to or for a Federal agency. For further explanation of what is included in the information collection burden, reference 5 Code of Federal Regulations 1320.3.

FERC-730—Report of Transmission Investment Activity
Number of respondents | Number of responses per respondent | Total number of responses | Average burden hours per response | Estimated total annual burden
(A) | (B) | (A) × (B) = (C) | (D) | (C) × (D)
63 | 1 | 63 | 30 | 1,890

The total estimated annual cost burden to respondents is $130,428.17 [1,890 hours ÷ 2080 ⁴ hours per year * $143,540/year ⁵ = $130,428.17].

⁴ 2080 hours/year = 40 hours/week * 52 weeks/year.

⁵ Average annual salary per employee in 2012.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: March 12, 2013.
Kimberly D. Bose,
Secretary.

[FR Doc. 2013-06201 Filed 3-18-13; 8:45 am]

BILLING CODE 6717-01-P